DEPARTMENT OF COMMERCE

International Trade Administration

A-570-896 A-821-819

Notice of Postponement of Preliminary Determinations in Antidumping Duty Investigations of Magnesium Metal from the People's Republic of China and the Russian Federation

AGENCY: Import Administration, International Trade Administration, Department of Commerce.

SUMMARY: The Department of Commerce (“Department”) is postponing the preliminary determinations in the antidumping duty investigations of magnesium metal from the People's Republic of China (“PRC”) and the Russian Federation (“Russia”) from August 5, 2004 until no later than September 24, 2004. This postponement is made pursuant to section 733(c)(1)(A) of the Tariff Act of 1930, as amended (“the Act”).

EFFECTIVE DATE: July 21, 2004.

FOR FURTHER INFORMATION CONTACT: Laurel LaCivita or Sebastian Wright, Import Administration, International Trade Administration, U.S. Department of Commerce, 14th Street and Constitution Avenue, N.W., Washington, DC 20230; telephone: (202) 482-4243 or (202) 482-5154, respectively.

Postponement of Preliminary Determinations

On March 25, 2004, the Department published the initiation of the antidumping duty investigations of imports of magnesium metal from the PRC and Russia. See Initiation of Antidumping Duty Investigations: Magnesium Metal from the People's Republic of China and the Russian Federation, 69 FR 15293 (March 25, 2004). The notice of initiation stated that we would make our preliminary determinations for these antidumping duty investigations no later than 140 days after the date of initiation.

On June 28, 2004, the petitioners¹ made a timely request pursuant to 19 CFR §351.205(e) for a fifty-day postponement of the preliminary determinations, or until September 24, 2004. The petitioners requested postponement of the preliminary determinations because they believe additional time is necessary to allow them time to analyze and submit comments to the Department regarding the respondents' questionnaire responses and to allow the Department time to analyze the respondents' data thoroughly and to seek additional information.

¹ The petitioners are US Magnesium Corporation LLC, United Steelworkers of America, Local 8319, and Glass, Molders, Pottery, Plastics & Allied Workers International, Local 374.

For the reasons identified by the petitioners and because there are no compelling reasons to deny the request, we are postponing the preliminary determinations under section 733(c)(1) of the Act. Therefore, the preliminary determinations in both these cases are now due no later than September 24, 2004. The deadline for the final determinations will continue to be 75 days after the date of the preliminary determinations, unless extended.

This notice is issued and published pursuant to sections 733(f) and 777(i) of the Act.

Dated: July 13, 2004.
James J. Jochum,
Assistant Secretary for Import Administration.

[FR Doc. 04-16613 Filed 7-20-04; 8:45 am]

BILLING CODE 3510-DS-S